DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 5, 2007. Address written comments to Statutory Import Programs Staff, Room 2104, U.S. Department of Commerce, Washington, D.C. 20230. Applications may be examined between 8:30 A.M. and 5:00 P.M. at the U.S. Department of Commerce in Room 2104.

Docket Number: 07-055. Applicant: University of Oklahoma, Mewbourne School of Petroleum and Geological Engineering, 100 E. Boyd Street, Suite T-301, Norman, OK 73019. Instrument: Electron Microscope, Quanta 200. Manufacturer: FEI Company, Czech Republic. Intended Use: The instrument is intended to be used for teaching several undergraduate and graduate courses/laboratories in the Petroleum Engineering Department. Students will use the environmental scanning electron microscope to study rocks mineral composition, cementation, microstructure, pore size distribution etc. Application accepted by Commissioner of Customs: September 14, 2007.

Docket Number: 07-057. Applicant: University of Alabama at Birmingham, 1720-7th Avenue South - SC 501, Birmingham, AL 35294-0017. Instrument: Electron Microscope, Model H-7650-II. Manufacturer: Hitachi High-Technologies Corp., Japan. Intended Use: The instrument is intended to be used to study the ultrastructure of brain tissue from experimental animals and postmortem human samples. The objectives are to describe normal human brain ultrastructure, ultrastructural abnormalities in the postmortem brains of subjects with brain disease and normal and abnormal ultrastructure in experimental animals. Application accepted by Commissioner of Customs: September 14, 2007.

Docket Number: 07-064. Applicant: Stowers Institute for Medical Research, 901 Volker Blvd., Kansas City, MO.64110. Instrument: Electron Microscope, Model Tecnai G2. Manufacturer: FEI Company, Czech Republic. Intended Use: The instrument is intended to be used to obtain high resolution and high contrast images of various cellular structures from research models. Application accepted by Commissioner of Customs: September 7, 2007.

Docket Number: 07-065. Applicant: State University of New York at Binghamton, 4400 Vestal Parkway East, Binghamton, NY 13902. Instrument: Electron Microscope, Model Nova 600 NanoLab, FEI Company, Netherlands. Intended Use: The instrument is to be used to provide a single chamber to image, analyze and cross section devices, layers, and interfaces. Application accepted by Commissioner of Customs: September 25, 2007.

Dated: Ocotober 9, 2007.
Faye Robinson,
Director, Statutory Import Programs Staff.

[FR Doc. E7-20263 Filed 10-12-07; 8:45 am]

BILLING CODE 3510-DS-S